DEPARTMENT OF AGRICULTURE

Forest Service

Okanogan and Wenatchee National Forests Resource Advisory Committee

AGENCY: Forest Service, USDA.

ACTION: Notice of meeting.

SUMMARY: The Wenatchee-Okanogan Resource Advisory Committee will meet on September 13 at the Okanogan-Wenatchee National Forest Headquarters Office, 215 Melody Lane, Wenatchee, WA; on September 19 at the Sunnyslope Fire Station, 206 Easy Street, Wenatchee, WA; and September 26 at the Washington State Parks office, 270 9th Street NE., East Wenatchee, WA. These meetings will begin at 9:00 a.m. and continue until 3:00 p.m. On September 13, committee members will review Okanogan County projects, on September 19, committee members will review Kittitas and Yakima Counties projects, and on September 26, committee members will review Chelan County projects proposed for Resource Advisory Committee consideration under Title II of the Secure Rural Schools and Community Self-Determination Act of 2000.

All Wenatchee-Okanogan Resource Advisory Committee meetings are open to the public. Interested citizens are welcome to attend.

FOR FURTHER INFORMATION CONTACT: Direct questions regarding this meeting to Robin DeMario, Public Affairs Specialist, Okanogan-Wenatchee National Forest, 215 Melody Lane, Wenatchee, Washington 98801, (509) 664-9200.

Dated: August 7, 2012.
Clinton D. Kyhl,
Okanogan-Wenatchee National Forest, Deputy Forest Supervisor.

[FR Doc. 2012-19821 Filed 8-13-12; 8:45 am]

BILLING CODE 3410-11-P